DEPARTMENT OF TRANSPORTATION

Federal Railroad Administration

Petition for Waiver of Compliance

In accordance with part 211 of Title 49, Code of Federal Regulations (CFR), notice is hereby given that the Guilford Rail System (GRS) has petitioned the Federal Railroad Administration (FRA) for a waiver of the Federal Track Safety Standards, Section 213.113, Defective Rails, which requires specific remedial actions for various types of rail flaws.

The Guilford Rail System

[Docket Number FRA-2000-8623]

GRS states that it voluntarily instituted a program to perform continuous searches for internal defects on certain lower speed branch lines when the Track Safety Standards do not mandate those inspections to be made. The standards require internal flaw inspections at various frequencies on Class 3 through 9 track.

In the event that rail defects are located during the additional rail inspections, which are not required by the safety standards, GRS requests that the railroad be able to use its discretion to decide whether operational safety would be protected by applying speed restrictions as the remedial action, or whether the specific remedial actions required by Section 213.113 are warranted. According to GRS, the goal of the program is to discover and address defects in rails before those conditions reach a level that may affect the safety of trains.

GRS states that the effect of the program would be to promote safety by allowing it to perform more comprehensive rail inspections. GRS expects the waiver to increase the safety on branch lines, with the expectation of fewer instances of derailments due to track conditions.

Interested parties are invited to participate in this proceeding by submitting written views, data, or comments. FRA does not anticipate scheduling a public hearing in connection with this proceeding, however, if any interested party desires an opportunity for oral comment, they should notify FRA, in writing, before the end of the comment period and specify the basis for their request.

All communications concerning this proceeding should be identified with Docket Number FRA-2000-8623 and must be submitted to the Docket Clerk, DOT Central Docket Management Facility, Room PL-401, 400 7th Street, SW., Washington, DC 20590-0001.

Communications received within 45 days of the date of this notice will be considered by FRA before final action is taken. Comments received after that date will be considered to the extent possible. GRS's petition and all written communications concerning this proceeding are available for examination during regular business hours (9 a.m.-5 p.m.) at the DOT Docket Management Facility, Room PL-401 (Plaza Level), 400 7th Street, SW., Washington, DC 20590. All documents in the public docket are also available for inspection and copying on the Internet at the docket facility's web site at http://dms.dot.gov.

Issued in Washington, DC, on April 2, 2001.
Grady C. Cothen, Jr.,
Deputy Associate Administrator for Safety Standards and Program Development.

[FR Doc. 01-8432 Filed 4-5-01; 8:45 am]

BILLING CODE 4910-06-P